DEPARTMENT OF COMMERCE

National Oceanic and Atmospheric Administration

[I.D. 022604A]

Endangered Species; Files No. 1472 and No. 1473

AGENCY: National Marine Fisheries Service (NMFS), National Oceanic and Atmospheric Administration (NOAA), Commerce.

ACTION: Receipt of application.

SUMMARY: Notice is hereby given that the Maritime Aquarium in Norwalk (Ellen Riker, principle investigator), 10 North Water Street, South Norwalk, Connecticut 06854 and the Virginia Living Museum (Lory Scott, principle investigator), 524 J. Clyde Morris Blvd., Newport News, Virginia 23601, have both applied in due form for a permit to take shortnose sturgeon (Acipenser brevirostrum) for purposes of enhancement through educational display.

DATES: Written, telefaxed, or e-mail comments must be received on or before April 5, 2004.

ADDRESSES:

The applications and related documents are available for review upon written request or by appointment in the following office(s):

Permits, Conservation and Education Division, Office of Protected Resources, NMFS, 1315 East-West Highway, Room 13705, Silver Spring, MD 20910; phone (301)713-2289; fax (301)713-0376; and

Northeast Region, NMFS, One Blackburn Drive, Gloucester, MA 01930-2298; phone (978)281-9200; fax (978)281-9371.

Comments may also be submitted by e-mail. The mailbox address for providing email comments is NMFS.Pr1Comments@noaa.gov. Include in the subject line of the e-mail comment the following document identifier: File No. 1472 and File No. 1473.

FOR FURTHER INFORMATION CONTACT: Jennifer Jefferies or Amy Sloan, (301)713-2289.

SUPPLEMENTARY INFORMATION: The subject permits are requested under the authority of the Endangered Species Act of 1973, as amended (ESA; 16 U.S.C. 1531 et seq.) and the regulations governing the taking, importing, and exporting of endangered and threatened species (50 CFR 222-226).

The Maritime Aquarium in Norwalk and the Virginia Living Museum both propose to receive and use 50 individual, captive-bred, non-releaseable shortnose sturgeon for educational display exhibits. These proposed projects of displaying endangered cultured shortnose sturgeon responds directly to a recommendation of the NMFS recovery outline for this species. In addition, the facilities would formulate public education programs and exhibits to increase awareness of the shortnose sturgeon and its status. These proposed projects would educate the public on shortnose sturgeon life history and the reasons for its declining numbers.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Dated: February 27, 2004.
Stephen L. Leathery,
Chief, Permits, Conservation and Education Division, Office of Protected Resources, National Marine Fisheries Service.

[FR Doc. 04-4872 Filed 3-3-04; 8:45 am]

BILLING CODE 3510-22-S